DEPARTMENT OF HEALTH AND HUMAN SERVICES

National Institutes of Health

Submission for OMB Review; Comment Request; CareerTrac

SUMMARY: Under the provisions of Section 3507(a)(1)(D) of the Paperwork Reduction Act of 1995, the Fogarty International Center (FIC), National Institute of General Medical Science (NIGMS), National Cancer Institute (NCI), and National Library of Medicine (NLM) of the National Institutes of Health (NIH), in conjunction with the National Institute of Environmental Health Sciences (NIEHS), including the Intramural Research and Training Award (IRTA) and Superfund Research Program (SRP) within NIEHS, has submitted to the Office of Management and Budget (OMB) for review and approval. This proposed information collection was previously published in the Federal Register, Vol. 77, No. 106, on June 1, 2012, pages 32648-32649 and allowed 60 days for public comment. One public comment was received from the Association for Research in Vision and Ophthalmology (ARVO). The purpose of this notice is to allow an additional 30 days for public comment. NIH may not conduct or sponsor, and the respondent is not required to respond to, an information collection that has been extended, revised, or implemented on or after October 1, 1995, unless it displays a currently valid OMB control number.

Proposed Collection: Title: CareerTrac. Type of Information Collection Request: REVISION (OMB NO.: 0925-0568). Need and Use of Information Collection: This data collection system is being developed to track, evaluate and report short and long-term outputs, outcomes, and impacts of international trainees involved in health research training programs—specifically tracking this for at least ten years following training by having Principal Investigators enter data after trainees have completed the program. The data collection system provides a streamlined, web-based application permitting Principal Investigators to record career achievement progress by trainee on a voluntary basis. FIC, NIEHS, NCI, NLM and NIGMS management will use this data to monitor, evaluate, and adjust grants to ensure desired outcomes are achieved, comply with OMB Part requirements, respond to congressional inquiries, and guide future strategic and management decisions regarding the grant program.

Frequency of Response: Annual and periodic. Affected Public: None. Type of Respondents: Principal Investigators and/or their administrators funded by FIC, NIEHS, NCI, NIGMS, and NLM. The annual reporting burden hours are as follows:

Type of respondents | Number of respondents | Response frequency | Average time per response (in hrs) | Total annual hour burden
Principal Investigators | 385 | 30 | 30/60 | 5,775
Total | 385 | 30 | 30/60 | 5,775

There are no capital, operating, or maintenance costs.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to (202) 395-6974, Attention: Desk Officer for NIH. To request more information on the proposed project or to obtain a copy of the data collection plans and instruments, contact Dr. Rachel Sturke, Evaluation Officer, Division of Science Policy, Planning, and Evaluation, FIC, NIH, 16 Center Drive, Bethesda, MD 20892, or call non-toll-free number (301) 480-6025 or email your request, including your address to: rachel.sturke@nih.gov.

Comments Due Date: Comments regarding this information collection are best assured of having their full effect if received within 30-days of the date of this publication.

Dated: September 14, 2012.
Dexter Collins,
Executive Officer, FIC, National Institutes of Health.

[FR Doc. 2012-23970 Filed 9-27-12; 8:45 am]

BILLING CODE 4140-01-P